DEPARTMENT OF COMMERCE

International Trade Administration

[C-570-913]

Certain New Pneumatic Off-the-Road Tires From the People's Republic of China: Final Results of the Expedited Sunset Review of the Countervailing Duty Order

AGENCY: Enforcement and Compliance, formerly Import Administration, International Trade Administration, Department of Commerce.

DATES: Effective Date: December 20, 2013.

SUMMARY: On August 1, 2013, the Department of Commerce (“Department”) initiated a sunset review of the countervailing duty order on certain new pneumatic off-the-road tires (OTR Tires) from the People's Republic of China (PRC). The Department finds that revocation of this countervailing duty order (CVD) would be likely to lead to the continuation or recurrence of net countervailable subsidies at the rates in the “Final Results of Review” section of this notice.

FOR FURTHER INFORMATION CONTACT: Andrew Huston, AD/CVD Operations, Office VII, Enforcement and Compliance, International Trade Administration, U.S. Department of Commerce, 14th Street and Constitution Avenue NW., Washington, DC 20230; telephone (202) 482-4261.

SUPPLEMENTARY INFORMATION:

Background

The CVD order on OTR Tires from the PRC was published on September 4, 2008.¹ On August 1, 2013, the Department initiated a sunset review of the order, pursuant to section 751(c) of the Tariff Act of 1930, as amended (the Act).² The Department received a notice of intent to participate from Titan Tire Corporation (Titan), a domestic interested party, within the deadline specified in 19 CFR 351.218(d)(1)(i). The Department received an adequate substantive response to the notice of initiation from the domestic interested party within the 30-day deadline specified in 19 CFR 351.218(d)(3)(i). The Department received no substantive responses from the Government of China (GOC) and respondent interested parties.

¹ See Certain New Pneumatic Off-the-Road Tires from the People's Republic of China: Countervailing Duty Order, 73 FR 51627 (September 4, 2008).

² See Initiation of Five-Year (“Sunset” ') Review, 78 FR 46575 (August 1, 2013).

The regulations provide, at 19 CFR 351.218(e)(1)(ii)(A), that the Department will normally conclude that respondent interested parties have provided adequate response to a notice of initiation where it receives complete substantive responses from respondent interested parties accounting on average for more than 50 percent, on a volume basis (or a value basis, if appropriate), of the total exports of the subject merchandise to the United States over the five calendar years preceding the year of publication of the notice of initiation. Moreover, in a sunset review of a CVD order, the Department will normally conduct a full review only if it receives adequate responses from domestic and respondent interested parties and a complete substantive response from the foreign government.³ Because the Department received no responses from the GOC and respondent interested parties, the Department is conducting an expedited (120-day) sunset review of the CVD order on OTR Tires from the PRC pursuant to 19 CFR 351.218(e)(1)(ii)(C)(2).

³ See 19 CFR 351.218(e)(2) and 351.218(e)(1)(ii)(B) and (C).

As explained in the memorandum from the Assistant Secretary for Enforcement and Compliance, the Department has exercised its discretion to toll deadlines for the duration of the closure of the Federal Government from October 1, through October 16, 2013.⁴ Therefore, all deadlines in this segment of the proceeding have been extended by 16 days.

⁴ See Memorandum for the Record from Paul Piquado, Assistant Secretary for Enforcement and Compliance, “Deadlines Affected by the Shutdown of the Federal Government.”

Scope of the Order

The merchandise covered by this order includes new pneumatic tires designed for off-the-road and off-highway use, subject to certain exceptions. The subject merchandise is currently classifiable under Harmonized Tariff Schedule of the United States (HTSUS) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. The HTSUS subheadings are provided for convenience and customs purposes only; the written product description of the scope of the order is dispositive.

A complete description of the scope of the order is contained in the Issues and Decision Memorandum (“Issues and Decision Memorandum”) from Christian Marsh, Deputy Assistant Secretary for Antidumping and Countervailing Duty Operations, to Ronald K. Lorentzen, Acting Assistant Secretary for Import Administration, dated December 16, 2013, which is hereby adopted by this notice. The Issues and Decision Memorandum is on file electronically via Import Administration's Antidumping and Countervailing Duty Centralized Electronic Service System (“IA ACCESS”). IA ACCESS is available to registered users at http://iaaccess.trade.gov and in the Central Records Unit in room 7046 of the main Commerce building. In addition, a complete version of the Issues and Decision Memorandum can be accessed directly on the Internet at http://enforcement.trade.gov/frn/. The signed Issues and Decision Memorandum and electronic versions of the Issues and Decision Memorandum are identical in content.

Analysis of Comments Received

All issues raised in this review are addressed in the Issues and Decision Memorandum. The issues discussed in the Issues and Decision Memorandum include the likelihood of continuation or recurrence of a countervailable subsidy and the net countervailable subsidy likely to prevail if the order was revoked. Parties can find a complete discussion of all issues raised in this review and the corresponding recommendations in this public memorandum.

Final Results of Review

Pursuant to sections 752(b)(1) and (3) of the Act, the Department determines that revocation of the CVD order on OTR Tires from the PRC would be likely to lead to continuation or recurrence of countervailable subsidies at the following net countervailable subsidy rates:

Manufacturers/exporters/producers | Net countervailable subsidy (percent)
Guizhou Tire Co., Ltd | 2.52
Hebei Starbright Co., Ltd | 35.13
Tianjin United Tire and Rubber International Co., Ltd | 6.85
All others | 5.65

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

The Department is issuing and publishing these final results and this notice in accordance with sections 751(c), 752(b), and 777(i)(1) of the Act.

Dated: December 16, 2013.
Ronald K. Lorentzen,
Acting Assistant Secretary for Enforcement and Compliance.

[FR Doc. 2013-30350 Filed 12-19-13; 8:45 am]

BILLING CODE 3510-DS-P